DEPARTMENT OF HOMELAND SECURITY

Coast Guard

33 CFR Part 100

[CGD05-05-058]

RIN 1625-AA08

Special Local Regulations for Marine Events; Harborfest 2005, Norfolk Harbor, Elizabeth River, Norfolk and Portsmouth, VA

AGENCY: Coast Guard, DHS.

ACTION: Notice of enforcement of regulation.

SUMMARY: The Coast Guard is implementing the special local regulations at 33 CFR 100.501 during the “Harborfest 2005” to be held on June 10, 11 and 12, 2005, on the waters of the Elizabeth River between Norfolk and Portsmouth, Virginia. These special local regulations are necessary to control vessel traffic due to the confined nature of the waterway and expected vessel congestion during the marine event. This action is necessary to provide for the safety of life on navigable waters before, during and after the event. The effect will be to restrict general navigation in the regulated area for the safety of event participants, spectators and other vessels transiting the event area.

Enforcement Dates: 33 CFR 100.501 will be effective from 2 p.m. on June 10, 2005 to 4 p.m. on June 12, 2005.

FOR FURTHER INFORMATION CONTACT: Senior Chief Michael Bowling, Marine Events Coordinator, Commander, Coast Guard Group Hampton Roads, 4000 Coast Guard Blvd., Portsmouth, VA 23703-2199, and (757) 483-8567.

SUPPLEMENTARY INFORMATION: The Norfolk Festevents ltd., will sponsor “Harborfest 2005” on the waters of the Elizabeth River in Norfolk Harbor between Portsmouth and Norfolk, Virginia. This annual celebration of the waterfront consists of a variety of on the water activities. Harborfest activities include an Opening Ceremony—Parade of Sail, Crawford Bay Crew Classic, Chesapeake Bay Workboat Parade of Sail, Chesapeake Bay Workboat Docking Competition, Chesapeake Bay Workboat Race, Watersports Ski Demonstration, and Quick and Dirty Boat Race. A large fleet of spectator vessels is anticipated to view the Harborfest activities. Therefore, to ensure the safety of participants, spectators and transiting vessels, 33 CFR 100.501 will be enforced for the duration of the event. Under provisions of 33 CFR 100.501, from 2 p.m. June 10, 2005 to 4 p.m. on June 12, 2005, any vessel may not enter the regulated area unless it receives permission from the Coast Guard Patrol Commander. Vessel traffic will be allowed to transit the regulated area between on the water events, when the Patrol Commander determines it is safe to do so.

In addition to this notice, the maritime community will be provided extensive advance notification via the Local Notice to Mariners, and marine information broadcasts so mariners can adjust their plans accordingly.

Dated: June 1, 2005.
Sally Brice-O'Hara,
Rear Admiral, U.S. Coast Guard, Commander, Fifth Coast Guard District.

[FR Doc. 05-11448 Filed 6-8-05; 8:45 am]

BILLING CODE 4910-15-P